DEPARTMENT OF EDUCATION

National Assessment Governing Board; Meeting

AGENCY: Department of Education, National Assessment Governing Board.

ACTION: Notice of Open Meeting and Partially Closed Sessions.

SUMMARY: The notice sets forth the schedule and proposed agenda of a forthcoming meeting of the National Assessment Governing Board. This notice also describes the functions of the Board. Notice of this meeting is required under Section 10(a)(2) of the Federal Advisory Committee Act. This document is intended to notify members of the general public of their opportunity to attend. Individuals who will need special accommodations in order to attend the meeting (e.g.: Interpreting services, assistive listening devices, materials in alternative format) should notify Munira Mwalimu at 202-357-6938 or at Munira.Mwalimu@ed.gov no later than May 6, 2011. We will attempt to meet requests after this date, but cannot guarantee availability of the requested accommodation. The meeting site is accessible to individuals with disabilities.

DATES: May 12-14, 2011

Times

May 12

Committee Meetings

Ad Hoc Committee: Open Session: 9:30 a.m.-11 a.m.

Assessment Development Committee: Closed Session: 11:30 a.m.-4:15 p.m.

Executive Committee: Open Session: 4:30 p.m.-5:15 p.m.; Closed Session: 5:15 p.m.-6 p.m.

May 13

Full Board

Open Session: 8:30 a.m.-9:45 a.m.; Closed Session: 12:45 p.m.-1:30 p.m.; Open Session: 1:45 p.m.-4:30 p.m.

Committee Meetings

Assessment Development Committee: Open Session: 10 a.m.-12:30 p.m.

Committee on Standards, Design and Methodology: Open Session: 10 a.m.-12:30 p.m.

Reporting and Dissemination Committee: Open Session: 10 a.m.-12:30 p.m.

May 14

Nominations Committee: Closed Session: 8 a.m.-8:45 a.m.

Full Board: Open Session: 9 a.m.-10 a.m.

Location: The Benson Hotel, 309 Southwest Broadway, Portland, OR 97205.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include the following: Selecting subject areas to be assessed, developing assessment frameworks and specifications, developing appropriate student achievement levels for each grade and subject tested, developing standards and procedures for interstate and national comparisons, developing guidelines for reporting and disseminating results, and releasing initial NAEP results to the public.

On May 12, from 9:30 a.m. to 11 a.m., the Ad Hoc Committee on Parent Engagement will meet in open session. Thereafter, from 11:30 a.m. to 4:15 p.m., the Assessment Development Committee will meet in closed session to review secure test items at the eighth grade for the Technological and Engineering Literacy (TEL) pilot assessment in 2013. The Board will be provided with specific test materials/questions for review that cannot be discussed/disclosed in an open meeting. Premature disclosure of these secure test materials would significantly impede implementation of the NAEP assessments, and is therefore protected by exemption 9(B) of section 552b(c) of Title 5 U.S.C.

On May 12, from 4:30 p.m. to 5:15 p.m., the Executive Committee will meet in open session and thereafter in closed session from 5:15 p.m. to 6 p.m. During the closed session on May 12, the Executive Committee will receive a briefing from the National Center for Education Statistics (NCES) on options for NAEP contracts covering assessment years beyond 2011 and discuss budget implications for the NAEP assessment schedule and for international linking studies. The discussion of contract options and costs will address the congressionally mandated goals and Board policies on NAEP assessments. This part of the meeting must be conducted in closed session because public discussion of this information would disclose independent government cost estimates and contracting options, adversely impacting the confidentiality of the contracting process. Public disclosure of information discussed would significantly impede implementation of the NAEP contracts, and is therefore protected by exemption 9(B) of section 552b(c) of Title 5 U.S.C.

On May 13, the full Board will meet in open session from 8:30 a.m. to 9:45 a.m. The Board will review and approve the meeting agenda and meeting minutes from the March 2011 Board meeting, followed by an oath of office for a newly appointed Board member, and the Chairman's remarks. Thereafter, Portland Board member W. James Popham and Oregon education leaders are scheduled to make welcome remarks and address the Board. The Executive Director of the Governing Board will then provide a report to the Board, followed by updates from the Commissioner of the National Center for Education Statistics and the Director of the Institute of Education Sciences. The Board will recess for Committee meetings on May 13 from 10 a.m. to 12:30 p. m.

The Governing Board's standing committees, the Assessment Development Committee, the Reporting and Dissemination Committee and the Committee on Standards, Design and Methodology will meet in open session on May 13 from 10 a.m. to 12 p.m.

On May 13, from 12:45 p.m. to 1:30 p.m. the full Board will meet in closed session to receive a briefing on the 2010 NAEP U.S. History Report Card. The Board will be provided with results of the assessments that cannot be discussed in an open meeting prior to their official release. Premature disclosure of test results would significantly impede implementation of the NAEP assessment, and is therefore protected by exemption 9(B) of section 552b(c) of Title 5 U.S.C.

From 1:45 p.m. to 2:30 p.m. the Board will meet in open session to receive a briefing and discuss the NAEP Five Largest States Report for 2009 (Mega States). Following this session, from 2:30 p.m. to 3:15 p.m., the Board will discuss ways of improving student achievement and closing achievement gaps. From 3:30 p.m. to 4:30 p.m., the Board will receive a briefing on Oregon's Assessment System from Tony Alpert, the Director of Assessment and Accountability from the Oregon Department of Education.

The May 13, 2010 session of the Board meeting is scheduled to conclude at 4:30 p.m.

On May 14, the Nominations Committee will meet in closed session from 8 a.m. to 8:45 a.m. to review specific names for Board vacancies, and the status of nominees for Board membership for terms beginning October 1, 2011. These discussions pertain solely to internal personnel rules and practices of an agency and will disclose information of a personal nature where disclosure would constitute an unwarranted invasion of personal privacy. As such, the discussions are protected by exemptions 2 and 6 of section 552b(c) of Title 5 U.S.C.

On May 14, the full Board will meet in open session to receive Committee reports and take action on Committee recommendations. The May 14, 2010 session of the Board meeting is scheduled to adjourn at 10 a.m.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. Eastern Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-866-512-1800; or in the Washington, DC, area at (202) 512-0000.

Note: The official version of this document is the document published in the Federal Register. Free Internet access to the official edition of the Federal Register and the Code of Federal Regulations is available on GPO Access at: http://www.gpoaccess.gov/nara/index.html.

Dated: April 28, 2011.
Cornelia S. Orr,
Executive Director, National Assessment Governing Board, U.S. Department of Education.

[FR Doc. 2011-10682 Filed 5-2-11; 8:45 am]

BILLING CODE 4000-01-P